DEPARTMENT OF THE TREASURY

Internal Revenue Service

26 CFR Part 1

[REG-158080-04]

RIN 1545-BE79

Application of Section 409A to Nonqualified Deferred Compensation Plans

Correction

In proposed rule document 05-19379 beginning on page 57930 in the issue of Tuesday, October 4, 2005, make the following corrections:

1. On page 57933, in the first column, under the heading C. Stock Options and Stock Appreciation Rights, the secondary heading “In General” should read “1. In General ”.

2. On the same page, in the second column, in the first line, “H.R. Conf. Rept. ” should read “H.R. Conf. Rep. ”.

3. On the same page, in the third column, under the heading 2. Definition of Service Recipient Stock, in the first paragraph, in the sixth line, “H.R. Conf. Rept. ” should read “H.R. Conf. Rep. ”.

[FR Doc. C5-19379 Filed 12-23-05; 8:45 am]

BILLING CODE 1505-01-D